DEPARTMENT OF COMMERCE

International Trade Administration

Smart Technologies Trade Mission to Taiwan and Hong Kong With an Optional Stop in Guangzhou (China)

April 24-28, 2017.

AGENCY: International Trade Administration, Department of Commerce.

ACTION: Notice.

SUMMARY: The United States Department of Commerce, International Trade Administration (ITA), is organizing a Trade Mission to Taiwan and Hong Kong, with an optional stop in Guangzhou (China), focused on Smart Technologies in the Information and Communication Technology Sector on April 24-28, 2017. The goal of this trade mission is to provide U.S. participants with first-hand market information and one-on-one meetings with technology partners in Taiwan, Hong Kong, and Guangzhou, including potential agents and distributors of smart technologies, so they can position themselves to enter or expand their presence in those markets.

The mission is intended to help expand U.S. exports to Hong Kong, Taiwan, and China for U.S. technology providers of smart transportation, smart building and financial technology (fintech). The mission will introduce these suppliers to business partners, industry representatives, and government officials in Taiwan and Hong Kong, with an optional stop in Guangzhou (for smart transportation and smart building only) to learn about and benefit from various smart city projects and opportunities in these respective cities. Increasingly, smart city technologies are seen as means to keep metropolitan and national economies competitive. A smart city market research report published by Navigant in 2014 forecast that the annual smart city technology investment in the Greater China region (China, Taiwan and Hong Kong) will grow from US$1 billion to US$5 billion by 2023. This figure represents only the smart technology part of much larger smart city projects across different industries and sectors, such as:

• Smart sensors and meters

• dedicated networks

• cloud computing platforms

• data analytics, and

• integrated systems and applications

The trade mission offers a timely and cost effective way of engaging key stakeholders in the development of smart city projects in Greater China. Trade mission participants will have the opportunity to interact extensively with host government, private sector and Commercial Service (CS) officials in Taiwan and Hong Kong to discuss industry developments, business opportunities and market entry strategies. In addition, participants with smart transportation and smart building technologies may opt to receive similar briefing and meeting opportunities in Guangzhou, China for an additional cost.

In Taiwan, Hong Kong, and Guangzhou (optional), participants will meet with pre-screened distributors, corporate representatives, and other business partners and government organizations involved in the promotion of smart technologies. They will also attend market briefings by U.S. Commercial Service and Consulate officials, as well as round table discussions offering further opportunities to speak with local business and industry decision-makers.

Schedule

April 23, Sunday | Delegates arrive in Taiwan.
April 24, Monday | 1 Day in Taiwan.
April 25, Tuesday | ½ Day in Taiwan. Travel to Hong Kong.
April 26, Wednesday | 1 Day in Hong Kong.
April 27, Thursday | ½ Day in Hong Kong. Travel to Guangzhou (Optional).
April 28, Friday | 1 Day in Guangzhou (Optional).
April 29, Saturday | Delegates depart.

Participation Requirements

All parties interested in participating in the trade mission to Taiwan, Hong Kong, and Guangzhou (Optional) must complete and submit an application package for consideration by the Department of Commerce. All applicants, on a staggered basis, will be evaluated on their ability to meet certain conditions and best satisfy the selection criteria as outlined below. U.S. companies or trade associations already doing business in Taiwan, Hong Kong, and China, as well as U.S. companies/trade associations seeking to enter those markets for the first time may apply. A minimum of 15 and maximum of 20 firms and/or trade associations will be selected to participate in the mission from the applicant pool.

Fees and Expenses

After a firm or trade association has been selected to participate on the mission, a payment to the Department of Commerce in the form of a participation fee is required. The participation fee for the Trade Mission will be $3,700 for small or medium-sized enterprises (SME); ¹ and $4,700 for large firms or trade associations. The cost for the optional stop in Guangzhou for smart transportation and smart building firms is not included and is an additional $750 per SME and $2,300 per large firm and trade association/organization. The fee for each additional firm representative for the mission and optional stop (large firm or SME/trade organization) is $1,000. Upon notification of acceptance to participate, those selected have 10 business days to submit payment or after such time the Department of Commerce reserves the right to revoke the acceptance or may offer the participant spot to other qualified applicants. Expenses for travel, lodging, meals, and incidentals will be the responsibility of each mission participant. Interpreter and driver services can be arranged for additional cost. The participation fee will cover group transit from hotel to airport/train station on departure from each destination as well as local group transportation to meeting venues, where applicable. Delegation members will be able to take advantage of U.S. Embassy rates for hotel rooms.

¹ An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (See http://www.export.gov/newsletter/march2008/initiatives.html for additional information).

Exclusions

The mission fee does not include any personal travel expenses such as lodging, most meals, local ground transportation and air transportation. Delegate members will, however, be able to take advantage of U.S. Government rates for hotel rooms. Government fees and processing expenses to obtain visas are also not included in the mission costs. However, the Department of Commerce will provide instructions to each participant on the procedures required to obtain necessary business visas. Trade Mission members participate in the trade mission and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Conditions for Participation

An applicant must submit a completed and signed mission application and supplemental application materials, including adequate information on the company's products and/or services, primary market objectives, and goals for participation. If the Department of Commerce receives an incomplete application, the Department may reject the application, request additional information, or take the lack of information into account when evaluating the applications.

Each applicant must also certify that the products and services it seeks to export through the mission are either produced in the U.S., or, if not, are marketed under the name of a U.S. firm and have at least fifty-one percent U.S. content. In the case of a trade association or organization, the applicant must certify that for each company to be represented by the association/organization, the products and/or services the represented company seeks to export are either produced in the U.S. or, if not, marketed under the name of a U.S. firm and have at least fifty-one percent U.S. content.

In addition, each applicant must:

• Certify that the products and services that it wishes to market through the mission would be in compliance with U.S. export controls and regulations;

• Certify that it has identified to the Department of Commerce for its evaluation any business pending before the Department that may present the appearance of a conflict of interest;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

Selection Criteria for Participation

• Suitability of the company's (or, in the case of a trade association or trade organization, represented companies') products or services to the market.

• Company's (or, in the case of a trade association or trade organization, represented companies') potential for business in the country and region, including likelihood of exports resulting from the mission.

• Consistency of the applicant's goals and objectives with the stated scope of the mission. Balance of company size, sector or subsector, and location may also be considered during the review process.

Referrals from political organizations and any documents containing references to partisan political activities (including political contributions) will be removed from an applicant's submission and not considered during the selection process.

Timeline for Recruitment and Applications

Mission recruitment will be conducted in an open and public manner, including publication in the Federal Register, posting on the Commerce Department trade mission calendar (http://export.gov/trademissions) and other Internet Web sites, press releases to general and trade media, direct mail, notices by industry trade associations and other multiplier groups, and publicity at industry meetings, symposia, conferences, and trade shows. Recruitment for the mission will begin immediately and conclude no later than January 31, 2017. The U.S. Department of Commerce will review applications and inform applicants of selection decisions on a staggered basis during the recruitment period beginning October 7, 2016. Applications received after January 31, 2017, will be considered only if space and scheduling constraints permit.

FOR FURTHER INFORMATION CONTACT: Gemal Brangman, Trade Promotion Programs Team Lead, U.S. Department of Commerce, Washington, DC, Tel: 202-482-3773, Email: Gemal.Brangman@trade.gov.

Frank Spector,
Trade Missions Program.

[FR Doc. 2016-27556 Filed 11-15-16; 8:45 am]

BILLING CODE 3510-DR-P